DEPARTMENT OF COMMERCE

National Oceanic and Atmospheric Administration

RIN 0648-XE763

Marine Mammals; File No. 18879

AGENCY: National Marine Fisheries Service (NMFS), National Oceanic and Atmospheric Administration (NOAA), Commerce.

ACTION: Notice; receipt of application.

SUMMARY: Notice is hereby given that Heather E. Liwanag, Ph.D. (California Polytechnic State University, San Luis Obispo, CA 93407-0401), has applied in due form for a permit to conduct research on Weddell seals (Leptonychotes weddellii) near McMurdo Station, Antarctica.

DATES: Written, telefaxed, or email comments must be received on or before September 2, 2016.

ADDRESSES: The application and related documents are available for review by selecting “Records Open for Public Comment” from the “Features” box on the Applications and Permits for Protected Species (APPS) home page, https://apps.nmfs.noaa.gov, and then selecting File No. 18879 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to study the thermoregulatory strategies (insulation, thermogenic mechanisms) by which Weddell seal pups maintain euthermia in air and in water and examine the development of diving capability (oxygen stores) as the animals prepare for independent foraging. This study will take place near McMurdo Station in Antarctica. In each field season (two field seasons total), nine pups (18 total) will be handled at five time points between two days and eight weeks of age. Protocols not requiring sedation (mass, morphometrics, core and surface temperatures, metabolic rates) will be conducted on all nine individuals at all five time points under manual restraint. Protocols requiring anesthesia (body composition, biopsies, and blood volume analysis) will be sampled twice for each animal: Once between two days and four weeks of age, and again at six weeks; one additional anesthesia procedure will be conducted for a single blood draw at seven or eight weeks. An additional 12 pups will be handled for vibrissae sampling annually, and a second cohort of nursing pups may be handled annually if study animals are not relocated at any of the 5 time points for resampling. The applicant is also proposing to take up to 700 animals for flipper tag reading, thermal imaging, and incidental harassment due to work with conspecifics. Up to six pup mortalities are requested annually, not to exceed ten over the two field seasons. The permit would be valid for three years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 28, 2016.
Julia Harrison,
Chief, Permits and Conservation Division, Office of Protected Resources, National Marine Fisheries Service.

[FR Doc. 2016-18298 Filed 8-2-16; 8:45 am]

BILLING CODE 3510-22-P